ENVIRONMENTAL PROTECTION AGENCY

40 CFR Part 272

[EPA-R06-2013-0461; FRL-9911-76-Region-6]

Oklahoma: Incorporation by Reference of Approved State Hazardous Waste Management Program

AGENCY: Environmental Protection Agency (EPA).

ACTION: Direct final rule.

SUMMARY: The Solid Waste Disposal Act, as amended, commonly referred to as the Resource Conservation and Recovery Act (RCRA), allows the Environmental Protection Agency (EPA) to authorize States to operate their hazardous waste management programs in lieu of the Federal program. The EPA uses the regulations entitled “Approved State Hazardous Waste Management Programs” to provide notice of the authorization status of State programs and to incorporate by reference those provisions of the State statutes and regulations that will be subject to the EPA's inspection and enforcement. The rule codifies in the regulations the prior approval of Oklahoma's hazardous waste management program and incorporates by reference authorized provisions of the State's statutes and regulations.

DATES: This regulation is effective September 2, 2014, unless the EPA receives adverse written comment on this regulation by the close of business July 31, 2014. If the EPA receives such comments, it will publish a timely withdrawal of this direct final rule in the Federal Register informing the public that this rule will not take effect. The Director of the Federal Register approves this incorporation by reference as of September 2, 2014 in accordance with 5 U.S.C. 552(a) and 1 CFR part 51.

ADDRESSES: Submit your comments by one of the following methods:

1. Federal eRulemaking Portal: http://www.regulations.gov. Follow the on-line instructions for submitting comments.

2. Email: patterson.alima@epa.gov or banks.julia@epa.gov.

3. Mail: Alima Patterson, Region 6, Regional Authorization Coordinator, or Julia Banks, State/Tribal Oversight Section (6PD-O), Multimedia Planning and Permitting Division, EPA Region 6, 1445 Ross Avenue, Dallas, Texas 75202-2733.

4. Hand Delivery or Courier: Deliver your comments to Alima Patterson, Region 6, Regional Authorization Coordinator or Julia Banks State/Tribal Oversight Section (6PD-O), Multimedia Planning and Permitting Division, EPA Region 6, 1445 Ross Avenue, Dallas, Texas 75202-2733.

Instructions: Direct your comments to Docket ID No. EPA-R06-RCRA-2013-0461. EPA's policy is that all comments received will be included in the public docket without change, including personal information provided, unless the comment includes information claimed to be Confidential Business Information (CBI) or other information whose disclosure is restricted by statute. Do not submit information that you consider to be CBI or otherwise protected through http://www.regulations.gov, or email. The Federal http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties, and cannot contact you for clarification, the EPA may not be able to consider your comment. Electronic files should avoid the use of special characters, any form of encryption, and be free of any defects or viruses.

You can view and copy the documents that form the basis for this codification and associated publicly available materials from 8:30 a.m. to 4:00 p.m. Monday through Friday at the following location: EPA Region 6, 1445 Ross Avenue, Dallas, Texas 75202-2733, phone number (214) 665-8533 or (214) 665-8178. Interested persons wanting to examine these documents should make an appointment with the office at least two weeks in advance.

FOR FURTHER INFORMATION CONTACT: Alima Patterson, Region 6 Regional Authorization Coordinator or Julia Banks, Codification Coordinator, State/Tribal Oversight Section (6PD-O), Multimedia Planning and Permitting Division, EPA Region 6, 1445 Ross Avenue, Dallas, Texas 75202-2733, phone numbers: (214) 665-8533 or (214) 665-8178, email address: patterson.alima@epa.gov or banks.julia@epa.gov.

SUPPLEMENTARY INFORMATION:

A. What is codification?

Codification is the process of placing a State's statutes and regulations that comprise the State's authorized hazardous waste management program into the Code of Federal Regulations (CFR). Section 3006(b) of RCRA, as amended, allows the Environmental Protection Agency (EPA) to authorize State hazardous waste management programs to operate in lieu of the Federal hazardous waste management regulatory program. The EPA codifies its authorization of State programs in 40 CFR part 272 and incorporates by reference State statutes and regulations that the EPA will enforce under sections 3007 and 3008 of RCRA and any other applicable statutory provisions.

The incorporation by reference of State authorized programs in the CFR should substantially enhance the public's ability to discern the current status of the authorized State program and State requirements that can be Federally enforced. This effort provides clear notice to the public of the scope of the authorized program in each State.

B. What is the history of the authorization and codification of Oklahoma's hazardous waste management program?

Oklahoma initially received Final authorization effective January 10, 1985, (49 FR 50362) to implement its Base Hazardous Waste Management program. Subsequently, the EPA approved additional program revision applications effective on June 18, 1990 (55 FR 14280), November 27, 1990 (55 FR 39274), June 3, 1991 (56 FR 13411), November 19, 1991 (56 FR 47675), November 29, 1993 (58 FR 50854), December 21, 1994 (59 FR 51116), April 27, 1995 (60 FR 2699), March 14, 1997 (62 FR 12100), July 14, 1998 (63 FR 23673), November 23, 1998 (63 FR 50528), February 8, 1999 (63 FR 67800), March 30, 2000 (65 FR 16528), July 10, 2000 (65 FR 29981), March 5, 2001 (66 FR 28), June 9, 2003 (68 FR 17308), April 6, 2009 (74 FR 5994), May 6, 2011 (76 FR 18927), May 14, 2012 (77 FR 15273), and May 29, 2013 (78 FR 32161). The EPA first incorporated by reference Oklahoma's hazardous waste program effective December 13, 1993 (58 FR 52679), and updated the incorporation by reference effective July 14, 1998 (63 FR 23673), October 25, 1999 (64 FR 46567), October 27, 2003 (68 FR 51488), August 27, 2010 (75 FR 36546), July 16, 2012 (77 FR 29231), and October 9, 2012 (77 FR 46964). In this document, the EPA is revising Subpart LL of 40 CFR part 272 to include the recent authorization revision actions effective July 29, 2013 (78 FR 32161).

C. What codification decisions have we made in this rule?

The purpose of this Federal Register document is to codify Oklahoma's base hazardous waste management program and its revisions through RCRA Cluster XXI. The EPA provided notices and opportunity for comments on the Agency's decisions to authorize the Oklahoma program, and the EPA is not now reopening the decisions, nor requesting comments, on the Oklahoma authorizations as published in the Federal Register notices specified in Section B of this document.

This document incorporates by reference Oklahoma's hazardous waste statutes and regulations and clarifies which of these provisions are included in the authorized and Federally enforceable program. By codifying Oklahoma's authorized program and by amending the Code of Federal Regulations, the public will be more easily able to discern the status of Federally approved requirements of the Oklahoma hazardous waste management program.

The EPA is incorporating by reference the Oklahoma authorized hazardous waste program in subpart LL of 40 CFR part 272. Section 272.1851 incorporates by reference Oklahoma's authorized hazardous waste statutes and regulations. Section 272.1851 also references the statutory provisions (including procedural and enforcement provisions) which provide the legal basis for the State's implementation of the hazardous waste management program, the Memorandum of Agreement, the Attorney General's Statements and the Program Description, which are approved as part of the hazardous waste management program under Subtitle C of RCRA.

D. What is the effect of Oklahoma's codification on enforcement?

The EPA retains its authority under statutory provisions, including but not limited to, RCRA sections 3007, 3008, 3013 and 7003, and other applicable statutory and regulatory provisions to undertake inspections and enforcement actions and to issue orders in authorized States. With respect to these actions, the EPA will rely on Federal sanctions, Federal inspection authorities, and Federal procedures rather than any authorized State analogues to these provisions. Therefore, the EPA is not incorporating by reference such particular, approved Oklahoma procedural and enforcement authorities. Section 272.1851(c)(2) of 40 CFR lists the statutory provisions which provide the legal basis for the State's implementation of the hazardous waste management program, as well as those procedural and enforcement authorities that are part of the State's approved program, but these are not incorporated by reference.

E. What state provisions are not part of the codification?

The public needs to be aware that some provisions of Oklahoma's hazardous waste management program are not part of the Federally authorized State program. These non-authorized provisions include:

(1) Provisions that are not part of the RCRA subtitle C program because they are “broader in scope” than RCRA subtitle C (see 40 CFR 271.1(i));

(2) Federal rules for which Oklahoma is not authorized, but which have been incorporated into the State regulations because of the way the State adopted Federal regulations by reference.

State provisions that are “broader in scope” than the Federal program are not part of the RCRA authorized program and the EPA will not enforce them. Therefore, they are not incorporated by reference in 40 CFR part 272. For reference and clarity, 40 CFR 272.1851(c)(3) lists the Oklahoma regulatory provisions which are “broader in scope” than the Federal program and which are not part of the authorized program being incorporated by reference. “Broader in scope” provisions cannot be enforced by the EPA; the State, however, may enforce such provisions under State law.

Oklahoma has adopted but is not authorized for the Federal rules published in the Federal Register on October 5, 1990 (55 FR 40834); February 1, 1991 (56 FR 3978); February 13, 1991 (56 FR 5910); April 2, 1991 (56 FR 13406); May 1, 1991 (56 FR 19951); December 23, 1991 (56 FR 66365); June 29, 1995 (60 FR 33912), May 26, 1998 (63 FR 28556), June 14, 2005 (70 FR 34538), August 1, 2005 (70 FR 44150); and December 19, 2008 (73 FR 77954). Therefore, these Federal amendments included in Oklahoma's adoption by reference at 252:205-3-2(b) through 252:205-3-2(m) of the Oklahoma Administrative Code, are not part of the State's authorized program and are not part of the incorporation by reference addressed by this Federal Register document.

With respect to any requirement pursuant to the Hazardous and Solid Waste Amendments of 1984 (HSWA) for which the State has not yet been authorized, the EPA will continue to enforce the Federal HSWA standards until the State is authorized for these provisions.

F. What will be the effect of Federal HSWA requirements on the codification?

The EPA is not amending 40 CFR part 272 to include HSWA requirements and prohibitions that are implemented by the EPA. Section 3006(g) of RCRA provides that any HSWA requirement or prohibition (including implementing regulations) takes effect in authorized and not authorized States at the same time. A HSWA requirement or prohibition supersedes any less stringent or inconsistent State provision which may have been previously authorized by the EPA (50 FR 28702, July 15, 1985). The EPA has the authority to implement HSWA requirements in all States, including authorized States, until the States become authorized for such requirement or prohibition. Authorized States are required to revise their programs to adopt the HSWA requirements and prohibitions, and then to seek authorization for those revisions pursuant to 40 CFR part 271.

Instead of amending the 40 CFR part 272 every time a new HSWA provision takes effect under the authority of RCRA section 3006(g), the EPA will wait until the State receives authorization for its analog to the new HSWA provision before amending the State's 40 CFR part 272 incorporation by reference. Until then, persons wanting to know whether a HSWA requirement or prohibition is in effect should refer to 40 CFR 271.1(j), as amended, which lists each such provision.

Some existing State requirements may be similar to the HSWA requirement implemented by the EPA. However, until the EPA authorizes those State requirements, the EPA can only enforce the HSWA requirements and not the State analogs. The EPA will not codify those State requirements until the State receives authorization for those requirements.

G. Statutory and Executive Order Reviews

The Office of Management and Budget (OMB) has exempted this action from the requirements of Executive Order 12866 (58 FR 51735, October 4, 1993), and therefore this action is not subject to review by OMB. This rule incorporates by reference Oklahoma's authorized hazardous waste management regulations and imposes no additional requirements beyond those imposed by State law. Accordingly, I certify that this action will not have a significant economic impact on a substantial number of small entities under the Regulatory Flexibility Act (5 U.S.C. 601 et seq.). Because this rule merely incorporates by reference certain existing State hazardous waste management program requirements which the EPA already approved under 40 CFR part 271, and with which regulated entities must already comply, it does not contain any unfunded mandate or significantly or uniquely affect small governments, as described in the Unfunded Mandates Reform Act of 1995 (Pub. L. 104-4).

This action will not have substantial direct effects on the States, on the relationship between the national government and the States, or on the distribution of power and responsibilities among the various levels of government, as specified in Executive Order 13132 (64 FR 43255, August 10, 1999), because it merely incorporates by reference existing authorized State hazardous waste management program requirements without altering the relationship or the distribution of power and responsibilities established by RCRA. This action also does not have Tribal implications within the meaning of Executive Order 13175 (65 FR 67249, November 6, 2000).

This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355, May 22, 2001), because it is not a significant regulatory action under Executive Order 12866.

The requirements being codified are the result of Oklahoma's voluntary participation in the EPA's State program authorization process under RCRA Subtitle C. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as amended by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 272

Environmental protection, Administrative practice and procedure, Confidential business information, Hazardous waste, Hazardous waste transportation, Incorporation by reference, Indian lands, Intergovernmental relations, Penalties, Reporting and recordkeeping requirements, Water pollution control, Water supply.

Authority: This action is issued under the authority of Sections 2002(a), 3006 and 7004(b) of the Solid Waste Disposal Act as amended, 42 U.S.C. 6912(a), 6926, 6974(b).

Dated: May 22, 2014.
Ron Curry,
Regional Administrator, EPA Region 6.

For the reasons set forth in the preamble, 40 CFR part 272 is amended as follows:

PART 272—APPROVED STATE HAZARDOUS WASTE MANAGEMENT PROGRAMS

1. The authority citation for part 272 continues to read as follows:

Authority: Sections 2002(a), 3006, and 7004(b) of the Solid Waste Disposal Act, as amended by the Resource Conservation and Recovery Act, as amended, 42 U.S.C. 6912(a), 6926, and 6974(b).

2. Revise § 272.1851 to read as follows:

§ 272.1851 Oklahoma State-Administered program: Final authorization.

(a) Pursuant to section 3006(b) of RCRA, 42 U.S.C. 6926(b), the EPA granted Oklahoma final authorization for the following elements as submitted to EPA in Oklahoma's base program application for final authorization which was approved by EPA effective on January 10, 1985. Subsequent program revision applications were approved effective on June 18, 1990, November 27, 1990, June 3, 1991, November 19, 1991, November 29, 1993, December 21, 1994, April 27, 1995, March 14, 1997, July 14, 1998 and November 23, 1998, February 8, 1999, March 30, 2000, July 10, 2000, March 5, 2001, June 9, 2003, April 6, 2009, May 6, 2011, May 14, 2012, and July 29, 2013.

(b) The State of Oklahoma has primary responsibility for enforcing its hazardous waste management program. However, EPA retains the authority to exercise its inspection and enforcement authorities in accordance with sections 3007, 3008, 3013, 7003 of RCRA, 42 U.S.C. 6927, 6928, 6934, 6973, and any other applicable statutory and regulatory provisions, regardless of whether the State has taken its own actions, as well as in accordance with other statutory and regulatory provisions.

(c) State Statutes and Regulations. (1) The Oklahoma statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. You may obtain copies of the Oklahoma regulations that are incorporated by reference in this paragraph from the State's Office of Administrative Rules, Secretary of State, P.O. Box 53390, Oklahoma City, OK 73152-3390; Phone number: 405-521-4911; Web site: www.sos.state.ok.us/oar/oar_welcome.htm. The statutes are available from West Publishing Company, 610 Opperman Drive, P.O. Box 64526, St. Paul, Minnesota 55164 0526; Phone: 1-800-328-4880; Web site: http://west.thomson.com. You may inspect a copy at EPA Region 6, 1445 Ross Avenue, Dallas, Texas 75202 (Phone number (214) 665-8533), or at the National Archives and Records Administration (NARA). For information on the availability of this material at NARA, call 202-741-6030, or go to: http://www.archives.gov/federal-register/cfr/ibr-locations.html.

(i) The binder entitled “EPA-Approved Oklahoma Statutory and Regulatory Requirements Applicable to the Hazardous Waste Management Program”, July, 2013. Only those provisions that have been authorized by EPA are incorporated by reference. These provisions are listed in Appendix A to Part 272.

(ii) [Reserved]

(2) The following provisions provide the legal basis for the State's implementation of the hazardous waste management program, but they are not being incorporated by reference and do not replace Federal authorities:

(i) Oklahoma Environmental Crimes Act, as amended through July 1, 2011, 21 Oklahoma Statutes (O.S.), Sections 1230.1 et seq.

(ii) Oklahoma Open Meetings Act, as amended through July 1, 2011, 25 Oklahoma Statutes (O.S.), Sections 301 et seq.

(iii) Oklahoma Statutes, Title 27A, “Environment and Natural Resources”, as amended through July 1, 2011: Chapter 1, “Oklahoma Environmental Quality Act”, Sections 1-1-101 et seq.; Chapter 2, “Oklahoma Environmental Quality Code”, Sections 2-2-101, 2-2-104, 2-2-201, 2-3-101(F)(1), 2-3-104, 2-3-202, 2-3-501, 2-3-502, 2-3-503, 2-3-504; “Oklahoma Hazardous Waste Management Act”, Sections 2-7-102, 2-7-104, 2-7-105 (except 2-7-105(27), 2-7-105(29) and 2-7-105(34)), 2-7-106, 2-7-107, 2-7-108(B)(2), 2-7-109, 2-7-110(A), 2-7-111(C)(2)(b) and (c), 2-7-111(C)(3), 2-7-113.1, 2-7-115, 2-7-116(A), 2-7-116(G), 2-7-116(H)(1), 2-7-117, 2-7-123, 2-7-126, 2-7-129, 2-7-130, 2-7-131, 2-7-132, and 2-7-133; “Oklahoma Uniform Environmental Permitting Act”, Sections 2-14-101 et seq.

(iv) Oklahoma Open Records Act, as amended through July 1, 2011, 51 Oklahoma Statutes (O.S.), Sections 24A.1 et seq.

(v) Oklahoma Administrative Procedures Act, as amended through July 1, 2011, 75 Oklahoma Statutes (O.S.), Sections 250 et seq.

(vi) The Oklahoma Administrative Code (OAC), Title 252, Chapter 205, Hazardous Waste Management, effective July 1, 2012 (2011 Edition, as amended by 29 Ok Reg. 620; published in Oklahoma Register, May 15, 2012, Volume 29, No. 17): Subchapter 1, Sections 252:205-1-1(b), 252:205-1-3(a) and (b), 252:205-1-4(a) —(d); Subchapter 3, Sections 252:205-3-2(a) introductory paragraph, 252:205-3-2(a)(1) and 252:205-3-2(a)(3); Subchapter 11, Section 252:205-11-3.

(3) The following statutory and regulatory provisions are broader in scope than the Federal program, are not part of the authorized program, and are not incorporated by reference:

(i) Oklahoma Hazardous Waste Management Act, as amended, 27A Oklahoma Statutes (O.S.) as amended through July 1, 2011, Sections 2-7-119, 2-7-120, 2-7-121, 2-7-121.1 and 2-7-134.

(ii) The Oklahoma Administrative Code (OAC), Title 252, Chapter 205, effective July 1, 2012: Subchapter 1, Sections 252:205-1-1(c)(2) and (3), 252:205-1-2 “RRSIA”. 252:205-1-2 “Reuse”, 252:205-1-2 “Speculative accumulation”, 252:205-1-2 “Transfer facility”, 252:205-1-2 “Transfer station”, 252:205-1-4(e); Subchapter 5, Section 252:205-5-1(4), Subchapter 15; Subchapter 17; Subchapter 21; Subchapter 23; and 252:205 Appendices B, C and D.

(4) Unauthorized State Amendments. The State's adoption of the Federal rules listed in the following table is not approved by the EPA and are; therefore, not enforceable:

Federal requirement | Federal Register reference | Publication date
Toxicity Characteristics; Hydrocarbon Recovery Operations | 55 FR 40834 56 FR 3978 56 FR 13406 | 10/5/90 2/1/91 4/2/91
Toxicity Characteristics; Chlorofluorocarbon Refrigerants | 56 FR 5910 | 2/13/91
Administrative Stay for K069 Listing | 56 FR 19951 | 5/1/91
Amendments to Interim Status Standards for Downgradient Ground-water Monitoring Well Locations | 56 FR 66365 | 12/23/91
Removal of Legally Obsolete Rules | 60 FR 33912 | 6/29/95
Mineral Processing Secondary Materials Exclusion.—Amendments to 40 CFR | 63 FR 28556 | 5/26/98
Methods Innovation: SW-846 | 70 FR 34538 70 FR 44150 | 6/14/05 8/1/05
Expansion of RCRA Comparable Fuel Exclusion | 73 FR 77954 | 12/19/08

(5) Memorandum of Agreement. The Memorandum of Agreement between EPA Region 6 and the State of Oklahoma, signed by the EPA Regional Administrator on May 15, 2013, is referenced as part of the authorized hazardous waste management program under subtitle C of RCRA, 42 U.S.C. 6921, et seq.

(6) Statement of Legal Authority. “Attorney General's Statement for Final Authorization”, signed by the Attorney General of Oklahoma January 20, 1984 and revisions, supplements, and addenda to that Statement dated January 14, 1988 (as amended July 20, 1989); December 22, 1988 (as amended June 7, 1989 and August 13, 1990); November 20, 1989; November 16, 1990; November 6, 1992; June 24, 1994; December 8, 1994; March 4, 1996; April 15, 1997; February 6, 1998, December 2, 1998, October 15, 1999, May 31, 2000, October 15, 2001, June 27, 2003, March 1, 2005, July 12, 2005, July 03, 2006, August 25, 2008, March 26, 2010, October 11, 2010, October 31, 2011, and July 27, 2012 are referenced as part of the authorized hazardous waste management program under subtitle C of RCRA, 42 U.S.C. 6921 et seq.

(7) Program Description. The Program Description and any other materials submitted as supplements thereto are referenced as part of the authorized hazardous waste management program under subtitle C of RCRA, 42 U.S.C. 6921 et seq.

3. Appendix A to part 272 is amended by revising the listing for “Oklahoma” to read as follows:

Appendix A to Part 272—State Requirements

* * * * *

Oklahoma

The statutory provisions include:

Oklahoma Hazardous Waste Management Act, as amended, 27A Oklahoma Statute (O.S.) 2011 Main Volume, Sections 2-7-103, 2-7-108(A), 2-7-108(B)(1), 2-7-108(B)(3), 2-7-108(C), 2-7-110(B), 2-7-110(C), 2-7-111(A), 2-7-111(B), 2-7-111(C)(1), 2-7-111(C)(2)(a), 2-7-111(D), 2-7-111(E), 2-7-112, 2-7-116(B) through 2-7-116(F), 2-7-116(H)(2), 2-7-118, 2-7-124, 2-7-125, 2-7-127, and 2-10-301(G), as published by West Publishing Company, 610 Opperman Drive, P.O. Box 64526, St. Paul, Minnesota 55164 0526; Phone: 1- 800-328-4880; Web site: http://west.thomson.com.

The regulatory provisions include:

The Oklahoma Administrative Code (OAC), Title 252, Chapter 205, effective July 1, 2012 (2011 Edition, as amended by 29 Ok Reg. 620; published in Oklahoma Register, May 15, 2012, Volume 29, No. 17): Subchapter 1, Sections 252:205-1-1(a), 252:205-1-1(c) introductory paragraph, 252:205-1-1(c)(1), 252:205-1-2 introductory paragraph, 252:205-1-2 “OHWMA”, 252:205-1-2 “Post-closure permit”, 252:205-1-3(c); Subchapter 3, Sections 252:205-3-1, 252:205-3-2(a)(2), 252:205-3-2(b)—(n), 252:205-3-4, 252:205-3-5 and 252:205-3-6; Subchapter 5, Sections 252:205-5-1 (except 252:205-5-1(4)), 252:205-5-2 through 252:205-5-5; Subchapter 7, Sections 252:205-7-2 and 252:205-7-4 (except the phrase or in accordance with 252:205-15-1(d)); Subchapter 9, Sections 252:205-9-1 through 252:205-9-4; Subchapter 11, Sections 252:205-11-1(a) (except the word “recycling”), 252:205-11-1(b)—(e), and 252:205-11-2; and Subchapter 13, Sections 252:205-13-1(a)—(e), as published by the State's Office of Administrative Rules, Secretary of State, P.O. Box 53390, Oklahoma City, OK 73152-3390; Phone number: 405-521-4911; Web site: www.sos.state.ok.us/oar/oar_welcome.htm.

* * * * *

[FR Doc. 2014-15267 Filed 6-30-14; 8:45 am]

BILLING CODE 6560-50-P